DEPARTMENT OF TRANSPORTATION

Pipeline and Hazardous Materials Safety Administration

[PHMSA-2019-0098]

Lithium Battery Air Safety Advisory Committee; Notice of Public Meeting

AGENCY: Pipeline and Hazardous Materials Safety Administration (PHMSA), U.S. Department of Transportation (DOT).

ACTION: Notice of public meeting.

SUMMARY: This notice announces a meeting of the Lithium Battery Air Safety Advisory Committee (Committee).

DATES: The meeting will be held on May 4, 2022, from 9:00 a.m. to 5:30 p.m. Eastern Daylight Time. Requests to attend the meeting must be sent by April 19, 2022, to the point of contact identified in the FOR FURTHER INFORMATION CONTACT section. Persons requesting to speak during the meeting must submit a written copy of their remarks to DOT by April 19, 2022. Requests to submit written materials to be reviewed during the meeting must be received no later than April 19, 2022.

ADDRESSES: The meeting will be held virtually. Details to access the virtual meeting will be posted on the Committee website located at: https://www.phmsa.dot.gov/hazmat/rulemakings/lithium-battery-safety-advisory-committee. If the guidelines concerning personal health and safety in Federal facilities during the COVID-19 pandemic change, PHMSA may hold a hybrid meeting. Details on a hybrid meeting will also be posted on the Committee website. The E-Gov website is located at https://www.regulations.gov. Mailed written comments intended for the Committee should be sent to Docket Management Facility; U.S. Department of Transportation (DOT), 1200 New Jersey Avenue SE, West Building, Room W12-140, Washington, DC 20590-0001.

FOR FURTHER INFORMATION CONTACT: Steven Webb or Aaron Wiener, PHMSA, U.S. Department of Transportation. Telephone: (202) 366-8553. Email: lithiumbatteryFACA@dot.gov. Any committee related request should be sent to the email address listed in this section.

SUPPLEMENTARY INFORMATION:

I. Background

The Lithium Battery Air Safety Advisory Committee was created under the Federal Advisory Committee Act (FACA, Pub. L. 92-463), in accordance with Section 333(d) of the FAA Reauthorization Act of 2018 (Pub. L. 115-254).

II. Agenda

The meeting agenda will address the following duties of the Committee as specifically outlined in section 333(d) of the FAA Reauthorization Act:

(a) Facilitate communication among manufacturers of lithium batteries and products containing lithium batteries, air carriers, and the federal government.

(b) Discuss the effectiveness and the economic and social impacts of lithium battery transportation regulations.

(c) Provide the Secretary with information regarding new technologies and transportation safety practices.

(d) Provide a forum to discuss Departmental activities related to lithium battery transportation safety.

(e) Advise and recommend activities to improve the global enforcement of air transportation of lithium batteries, and the effectiveness of those regulations.

(f) Provide a forum for feedback on potential U.S. positions to be taken at international forums.

(g) Guide activities to increase awareness of relevant requirements.

(h) Review methods to decrease the risk posed by undeclared hazardous materials.

A final agenda will be posted on the Lithium Battery Air Safety Advisory Committee website at least 15 days in advance of the meeting.

III. Public Participation

The meeting will be open to the public. DOT is committed to providing equal access to this meeting for all participants. If you need alternative formats or services because of a disability, such as sign language, interpretation, or other ancillary aids, please contact the person listed in the FOR FURTHER INFORMATION CONTACT section no later than April 19, 2022. To accommodate as many speakers as possible, time for each commenter may be limited. There will be five minutes allotted for oral comments from members of the public joining the meeting. Individuals wishing to reserve speaking time during the meeting must submit a request at the time of registration, as well as the name, address, and organizational affiliation of the proposed speaker. If the number of registrants requesting to make statements is greater than can be reasonably accommodated during the meeting, PHMSA may conduct a lottery to determine the speakers. Speakers are requested to submit a written copy of their prepared remarks for inclusion in the meeting records and for circulation to Lithium Battery Air Safety Advisory Committee members. All prepared remarks submitted on time will be accepted and considered as part of the record. Any member of the public may present a written statement to the committee at any time.

Copies of the meeting minutes and committee presentations will be available on the Lithium Battery Air Safety Advisory Committee website. Presentations will also be posted on the E-Gov website in docket number PHMSA [PHMSA-2019-0098], within 30 days following the meeting.

Written comments: Persons who wish to submit written comments on the meetings may submit them to docket [PHMSA-2019-0098] in the following ways:

1. E-Gov Website: This site allows the public to enter comments on any Federal Register notice issued by any agency.

2. Mail

Instructions: Identify the docket number [PHMSA-2019-0098] at the beginning of your comments. Note that all comments received will be posted without change to the E-Gov website, including any personal information provided. Anyone can search the electronic form of all comments received into any of our dockets by the name of the individual submitting the comment (or signing the comment, if submitted on behalf of an association, business, labor union, etc.). Therefore, consider reviewing DOT's complete Privacy Act Statement in the Federal Register published on April 11, 2000, (65 FR 19477), or view the Privacy Notice on the E-Gov website before submitting comments.

Docket: For docket access or to read background documents or comments, go to the E-Gov website at any time or visit the DOT dockets facility listed in the ADDRESSES category, between 9:00 a.m. and 5:00 p.m., Monday through Friday, except federal holidays.

If you wish to receive confirmation of receipt of your written comments, please include a self-addressed, stamped postcard with the following statement: “Comments on [PHMSA-2019-0098].” The docket clerk will date stamp the postcard prior to returning it to you via the U.S. mail.

Privacy Act Statement

DOT may solicit comments from the public regarding certain general notices. DOT posts these comments, without edit, including any personal information the commenter provides, to the E-Gov website, as described in the system of records notice (DOT/ALL-14 FDMS).

Issued in Washington, DC, on April 14, 2022.
William S. Schoonover,
Associate Administrator for Hazardous Materials Safety.

[FR Doc. 2022-08335 Filed 4-18-22; 8:45 am]

BILLING CODE 4910-9X-P